CONSUMER PRODUCT SAFETY COMMISSION

Sunshine Act Meetings

FEDERAL REGISTER CITATION OF PREVIOUS ANNOUNCEMENT: Vol. 77, No. 62, Friday, March 30, 2012, page 19263.

ANNOUNCED TIME AND DATE OF MEETING: Wednesday, April 4, 2012, 10 a.m.-11 a.m.

MEETING CANCELED: For a recorded message containing the latest agenda information, call (301) 504-7948.

CONTACT PERSON FOR ADDITIONAL INFORMATION: Todd A. Stevenson, Office of the Secretary, 4330 East West Highway, Bethesda, MD 20814 (301) 504-7923.

Dated: April 3, 2012.
Todd A. Stevenson,
Secretary.

[FR Doc. 2012-9042 Filed 4-11-12; 4:15 pm]

BILLING CODE 6355-01-P